DEPARTMENT OF THE TREASURY

Submission for OMB Review; Comment Request

January 11, 2012.

The Department of the Treasury will submit the following information collection request to the Office of Management and Budget (OMB) for review and clearance in accordance with the Paperwork Reduction Act of 1995, Public Law 104-13, on or after the date of publication of this notice.

DATES: Comments should be received on or before February 16, 2012 to be assured of consideration.

ADDRESSES: Send comments regarding the burden estimate, or any other aspect of the information collection, including suggestion for reducing the burden, to the (1) Office of Information and Regulatory Affairs, Office of Management and Budget, Attention: Desk Officer for Treasury, New Executive Office Building, Room 10235, Washington, DC 20503, or email at OIRA_Submission@OMB.EOP.GOV and to the (2) Treasury PRA Clearance Officer, 1750 Pennsylvania Ave. NW., Suite 11020, Washington, DC 20220, or on-line at www.PRAComment.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0037.

Type of Review: Revision of a currently approved collection.

Title: Withdrawal of Spirits, Specially Denatured Spirits, or Wines for Exportation.

Form: TTB F 5100.11.

Abstract: TTB F 5100.11 is completed by exporters to report the withdrawal of spirits, denatured spirits, and wines from internal revenue bonded premises, without payment of tax for direct exportation, transfer to a foreign trade zone, Customs manufacturer's bonded warehouse or Customs bonded warehouse, or for use as supplies on vessels or aircraft.

Respondents: Private Sector: Businesses or other for-profits.

Estimated Total Burden Hours: 6,000.

OMB Number: 1513-0040.

Type of Review: Revision of a currently approved collection.

Title: Application for Operating Permit Under 26 U.S.C. 5171(d).

Form: TTB F 5110.25.

Abstract: TTB F 5110.25 is completed by proprietors of Distilled Spirits Plants who engage in certain specified types of activities. TTB National Revenue Center personnel uses the information on the form to identify the applicant, the location of the business, the types of activities to be conducted, and the qualifications of the applicant.

Respondents: Private Sector: Businesses or other for-profits.

Estimated Total Burden Hours: 20.

OMB Number: 1513-0043.

Type of Review: Extension without change of a currently approved collection.

Title: Application and Permit to Ship Puerto Rican Spirits to the United States Without Payment of Tax.

Form: TTB F 5110.31.

Abstract: TTB F 5110.31 is used to allow a person to ship spirits in bulk into the U.S. without payment of tax. The form identifies the person in Puerto Rico from where shipments are to be made, the person in the U.S. receiving the spirits, and amounts of spirits to be shipped.

Respondents: Private Sector: Businesses or other for-profits.

Estimated Total Burden Hours: 750.

Dawn D. Wolfgang,
Treasury PRA Clearance Officer.

[FR Doc. 2012-719 Filed 1-13-12; 8:45 am]

BILLING CODE 4810-31-P